DEPARTMENT OF AGRICULTURE

Animal and Plant Health Inspection Service

[Docket No. APHIS-2016-0056]

Secretary's Advisory Committee on Animal Health; Meeting

AGENCY: Animal and Plant Health Inspection Service, USDA.

ACTION: Notice of meeting.

SUMMARY: This is a notice to inform the public of an upcoming meeting of the Secretary's Advisory Committee on Animal Health. The meeting is being organized by the Animal and Plant Health Inspection Service to discuss matters of animal health.

DATES: The meeting will be held on September 7 and 8, 2016, from 9 a.m. to 5 p.m. each day.

ADDRESSES: The meeting will be held in the Williamsburg, Room 104-A of the USDA Headquarters, 1400 Independence Avenue SW., Washington DC 20050.

FOR FURTHER INFORMATION CONTACT: Dr. Diane Sutton, Designated Federal Officer, VS, APHIS, 4700 River Road Unit 43, Riverdale, MD 20737; phone (301) 851-3509, email SACAH.Management@aphis.usda.gov.

SUPPLEMENTARY INFORMATION: The Secretary's Advisory Committee on Animal Health (the Committee) advises the Secretary of Agriculture on matters of animal health, including means to prevent, conduct surveillance on, monitor, control, or eradicate animal diseases of national importance. In doing so, the Committee will consider public health, conservation of natural resources, and the stability of livestock economies.

Tentative topics for discussion at the meeting include:

• Human infections with Salmonella associated with contact with live poultry;

• Emerging diseases implementation guide;

• Emerging disease response;

• Comprehensive integrated animal health surveillance;

• VS stakeholder engagement;

• Foot and mouth disease vaccine availability;

• National bio and agro-defense facility update and request for input on process for identifying stakeholder priorities;

• How to maximize effectiveness of the committee; and

• Potential agenda items for the 2016-2018 committee term.

A final agenda will be posted on the Committee Web site.

Those wishing to attend the meeting in person must complete a brief registration form by clicking on the “SACAH Meeting Sign-Up” button on the Committee's Web site (http://www.aphis.usda.gov/animalhealth/sacah). Members of the public may also join the meeting via teleconference in “listen-only” mode. Participants who wish to listen in on the teleconference may do so by dialing 888-945-5893 and then entering the public passcode 5309315#. Oral comments from the public will be accepted at approximately 1:15 p.m. each day.

Questions and written statements for the Committee's consideration may be submitted up to 5 working days before the meeting. They may be sent to SACAH.Management@aphis.usda.gov or mailed to the person listed under FOR FURTHER INFORMATION CONTACT. The statement must also reference Docket Number APHIS-2016-0056.

This notice of meeting is given pursuant to section 10 of the Federal Advisory Committee Act (5 U.S.C. App. 2).

Done in Washington, DC, this 12th day of August 2016.
Kevin Shea,
Administrator, Animal and Plant Health Inspection Service.

[FR Doc. 2016-19737 Filed 8-17-16; 8:45 am]

BILLING CODE 3410-34-P